DEPARTMENT OF COMMERCE

International Trade Administration

(C-533-825)

Polyethylene Terephthalate Film, Sheet, and Strip from India: Final Results of Countervailing Duty Administrative Review

AGENCY: Import Administration, International Trade Administration, Department of Commerce.

SUMMARY: On August 8, 2006, the Department of Commerce (the Department) published in the Federal Register its preliminary results of administrative review of the countervailing duty order on polyethylene terephthalate film, sheet, and strip (PET-Film) from India for the period January 1, 2004, through December 31, 2004. See Notice of Preliminary Results and Rescission, in Part, of Countervailing Duty Administrative Review: Polyethylene Terephthalate Film, Sheet, and Strip from India, 71 FR 45037 (August 8, 2006) (Preliminary Results). Based on the results of our verification and our analysis of the comments received, the Department has revised the net subsidy rates for the respondents: Jindal Polyester Limited/Jindal Poly Films Limited of India (Jindal) and Polyplex Corporation Ltd. (Polyplex). The final net subsidy rates for the reviewed companies are listed below in the section entitled “Final Results of Review.”

EFFECTIVE DATE: February 12, 2007.

FOR FURTHER INFORMATION CONTACT: Elfi Blum, Nicholas Czajkowski, or Toni Page, AD/CVD Operations, Office 6, Import Administration, International Trade Administration, U.S. Department of Commerce, 14th Street and Constitution Avenue, NW, Washington, DC 20230; telephone: (202) 482-0197, (202) 482-1395, or (202) 482-1398, respectively.

SUPPLEMENTARY INFORMATION:

Background

Since the publication of the Preliminary Results, the following events have occurred. As provided in 782(i) of the Tariff Act of 1930, as amended (the Act), the Department conducted a verification of the questionnaire responses submitted by the Government of India (GOI), Polyplex, and Jindal from October 3 through October 13, 2006. We used standard verification procedures, including on-site examination of relevant records and original source documents. Our verification results are outlined in the public and proprietary versions of the verification memoranda, which are on file in the Central Records Unit (CRU), room B-099 of the Main Commerce Building. See “Verification of the Questionnaire Responses Submitted by the Government of India (GOI)”(December 13, 2006) (GOI Verification Report); “Verification of the Questionnaire Responses Submitted by Polyplex Corporation Ltd. (Polyplex)” (December 13, 2006) (Polyplex Verification Report); and “Verification of the Questionnaire Responses Submitted by Jindal Polyester Ltd. (Jindal)” (December 13, 2006) (Jindal Verification Report). On December 28, 2006, Dupont Teijin Films, Mitsubishi Polyester Film of America, and Toray Plastics (America), Inc. (collectively, the Petitioners), Polyplex and Jindal, filed case briefs. Polyplex, Jindal, and Petitioners filed rebuttal briefs on January 4, 2006.

Scope of the Order

For purposes of the order, the products covered are all gauges of raw, pretreated, or primed Polyethylene Terephthalate Film, Sheet and Strip, whether extruded or coextruded. Excluded are metallized films and other finished films that have had at least one of their surfaces modified by the application of a performance-enhancing resinous or inorganic layer of more than 0.00001 inches thick. Imports of PET film are classifiable in the Harmonized Tariff Schedule of the United States (HTSUS) under item number 3920.62.00. HTSUS subheadings are provided for convenience and customs purposes. The written description of the scope of the order is dispositive.

Analysis of Comments Received

We gave interested parties an opportunity to comment on our Preliminary Results following the release of our verification reports for the GOI, Polyplex, and Jindal. The issues raised in all case and rebuttal briefs by parties to this administrative review are addressed in the Issues and Decision Memorandum for the 2004 Countervailing Duty Administrative Review of Polyethylene Terephthalate Film, Sheet, and Strip from India, from Stephen J. Claeys to David M. Spooner, dated February 5, 2007 (Issues and Decision Memorandum), which is hereby adopted by this notice. The Issues and Decision Memorandum also contains a complete analysis of the programs covered by this review and the methodologies used to calculate the subsidy rates. A list of the comments raised in the briefs and addressed in the Issues and Decision Memorandum is appended to this notice. The Issues and Decision Memorandum is on file in the CRU, and can be accessed directly on the Web at http://ia.ita.doc.gov.

Changes Since the Preliminary Results

Based on our verification and analysis of comments received, we have made some adjustments in the methodology that was used in the Preliminary Results for calculating both Jindal's and Polyplex's subsidy rates under several programs, and adjusted the cash deposit rate to reflect the termination of the 80HHC Program. All changes are discussed in detail in the Issues and Decision Memorandum. In addition, the Department finds that the 80HHC Tax Exemption program was terminated in accordance with the provisions of 19 CFR 351.526. Therefore, the Department will include the subsidy rate from the 80HHC Tax Exemption program in the assessment rate but exclude it from the cash deposit rate.

Final Results of Review

In accordance with sections 777A(e)(1) and 751(a)(I)(A) of the Act and 19 CFR 351.221(b)(5), we calculated individual ad valorem subsidy rates for the producers/exporters, Jindal and Polyplex, the only producers/exporters subject to this review for the calendar year 2004, which is the POR for this administrative review.

Manufacturer/Exporter | Net Subsidy Rate | Cash Deposit Rate
Jindal | 14.28 %% | 13.99 %%
Polyplex | 9.20 %% | 7.60 %%

Assessment and Cash Deposit Instructions

The Department intends to issue assessment instructions to U.S. Customs and Border Protection (CBP) 15 days after the date of publication of these final results of review. The Department will instruct CBP to collect cash deposits of estimated countervailing duties as detailed above, based upon the f.o.b. invoice price on all shipments of the subject merchandise from the producers/exporters under review, entered, or withdrawn from warehouse, for consumption on or after the date of publication of the final results of this administrative review.

We will also instruct CBP to continue to collect cash deposits for non-reviewed companies at the most recent company-specific rate applicable to the company. Accordingly, the cash deposit rate that will be applied to non-reviewed companies covered by this order will be the rate for that company established in the investigation. See Notice of Final Affirmative Countervailing Duty Determination: Polyethylene Terephthalate Film, Sheet, and Strip (PET Film) From India, 67 FR 34905 (May 16, 2002). The “all others” rate shall apply to all non-reviewed companies until a review of a company assigned this rate is requested.

This notice also serves as a reminder to parties subject to administrative protective order (APO) of their responsibility concerning the disposition of proprietary information disclosed under APO in accordance with 19 CFR 351.305(a)(3). Timely written notification of return/destruction of APO materials or conversion to judicial protective order is hereby requested. Failure to comply with the regulations and the terms of an APO is a sanctionable violation.

This administrative review and notice are issued and published in accordance with sections 751(a)(1) and 777(i)(1) of the Act.

Dated: February 5, 2007.
David M. Spooner,
Assistant Secretary for Import Administration.

Appendix I

List Of Issues Addressed In The Issues And Decision Memorandum

Comment 1: Inclusion of Deemed Export Sales in the Total Value of Export Sales

Comment 2: Inclusion of Non-Subject Merchandise in the Subsidy Calculations

Comment 3: Countervailibility of the Advance License Program(ALP)

Comment 4: Export Promotion Capital Goods Scheme Calculations

Comment 5: Sale of the DFRC License

Comment 6: Loans from Government-Owned Special Purpose Banks

Comment 7: State Sales Tax Incentive Programs

Comment 8: Target Plus Scheme(TPS)

[FR Doc. E7-2367 Filed 2-9-07; 8:45 am]

BILLING CODE 3510-DS-S